SECURITIES AND EXCHANGE COMMISSION

Issuer Delisting; Notice of Application to Withdraw from Listing and Registration; (Ramco Energy plc, American Depositary Shares (Representing Ordinary Shares, Nominal Value 10p Per Share) File No. 1-14582

December 11, 2000.

Ramco Energy plc, a company organized under the laws of Scotland (“Company”), has filed an application with the Securities and Exchange Commission (“Commission”), pursuant to Section 12(d) of the Securities Exchange Act of 1934 (“Act”) ¹ and Rule 12d2-2(d) thereunder,² to withdraw its American Depositary Shares (representing Ordinary Shares, nominal value 10p per share) (“Security”), from listing and registration on the American Stock Exchange (“Amex”).

¹ 15 U.S.C. 781(d).

² 17 CFR 240.12d2-2(d).

While the Company's Security is listed and registered in the United States on the Amex, the Company's related Ordinary Shares are listed in England on the Alternative Investment Market of the London Stock Exchange. The Company has stated that the trading volume for its Security on the Amex is very limited. In order to avoid the direct and indirect costs of maintaining the Amex listing, therefore, the Company's board of directors unanimously approved a resolution on November 21, 2000, authorizing the Security's withdrawal from listing and registration on the Amex.

The Company has stated in its application that it has complied with the rules of the Amex governing the voluntary withdrawal of a security from listing and registration. In addition, the Company has stated that its application relates solely to the listing and registration of its Security on the Amex and shall have no effect on the continued listing of its related Ordinary Shares on the Alternative Investment Market of the London Stock Exchange.

Any interested person may, on or before January 3, 2001, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.³
³ 17 CFR 200.30-3(a)(1).
Jonathan G. Katz,
Secretary.

[FR Doc. 00-31992 Filed 12-14-00; 8:45 am]

BILLING CODE 8010-01-M